DEPARTMENT OF COMMERCE

National Oceanic and Atmospheric Administration

[I.D. 101206E]

Atlantic Highly Migratory Species; Advisory Panel

AGENCY: National Marine Fisheries Service (NMFS), National Oceanic and Atmospheric Administration (NOAA), Commerce.

ACTION: Notice.

SUMMARY: NMFS solicits nominations for the Highly Migratory Species (HMS) Advisory Panel. Nominations are being sought to fill one-third of the Advisory Panel posts for a 3-year appointment.

DATES: Nominations must be received on or before November 27, 2006.

ADDRESSES: You may submit nominations and requests for the Advisory Panel Statement of Organization, Practices, and Procedures by any of the following methods:

• Email: SF1.101206E@noaa.gov. Include in the subject line the following identifier: “I.D. 101206E.”

• Mail: Margo Schulze-Haugen, Chief, Highly Migratory Species Management Division, NMFS, 1315 East-West Highway, Silver Spring, MD 20910.

• Fax: 301-713-1917.

FOR FURTHER INFORMATION CONTACT: Chris Rilling or Carol Douglas at (301) 713-2347.

SUPPLEMENTARY INFORMATION:

Introduction

The Magnuson-Stevens Fishery Conservation and Management Act (Magnuson-Stevens Act), 16 U.S.C. 1801 et seq., as amended by the Sustainable Fisheries Act, Public Law 104-297, provided for the establishment of Advisory Panel (AP) to assist in the collection and evaluation of information relevant to the development of any Fishery Management Plan (FMP) or FMP amendment. NMFS consults with and considers the comments and views of the AP when preparing and implementing FMPs or FMP amendments for Atlantic tunas, swordfish, sharks, and billfish. For instance, the AP has consulted with NMFS on the HMS FMP (April 1999), Amendment 1 to the Billfish FMP (April 1999), Amendment 1 to the HMS FMP (December 2004), and the Consolidated HMS FMP (March 2006).

Nominations are being sought to fill one-third of the posts on the HMS AP for a 3-year appointment.

Procedures and Guidelines

A. Nomination Procedures for Appointments to the Advisory Panels

Individuals with definable interests in the recreational and commercial fishing and related industries, environmental community, academia, governmental entities, and non-governmental organizations will be considered for membership in the AP.

Nominations are invited from all individuals and constituent groups. Nomination packages should include:

1. The name of the applicant or nominee and a description of his/her interest in HMS or in one species from sharks, swordfish, tunas, and billfish;

2. A statement of background and/or qualifications;

3. A written commitment that the applicant or nominee shall actively participate in good faith in the tasks of the AP; and

4. A list of outreach resources that the applicant has at his/her disposal to communicate HMS issues to various interest groups.

Tenure for the HMS AP

Member tenure will be for 3 years (36 months), with one-third of the members' terms expiring on December 31 of each year.

B. Participants

Nominations for the AP will be accepted to allow representation from recreational and commercial fishing interests, the conservation community, and the scientific community. The HMS AP consists of members who are knowledgeable about the fisheries for Atlantic HMS species.

NMFS does not believe that each potentially affected organization or individual must necessarily have its own representative, but each area of interest must be adequately represented. The intent is to have a group that, as a whole, reflects an appropriate and equitable balance and mix of interests given the responsibilities of the AP. Criteria for membership include one or more of the following: (1) Experience in the recreational fishing industry involved in fishing for HMS; (2) experience in the commercial fishing industry for HMS; (3) experience in fishery-related industries (marinas, bait and tackle shops); (4) experience in the scientific community working with HMS; and/or (5) representation of a private, non-governmental, regional, (non-Federal) state, national, or international organization representing marine fisheries, environmental, governmental or academic interests dealing with HMS.

Five additional members on the AP include one member representing each of the following Councils: New England Fishery Management Council, the Mid-Atlantic Fishery Management Council, the South Atlantic Fishery Management Council, the Gulf of Mexico Fishery Management Council, and the Caribbean Fishery Management Council. The AP also includes 22 ex-officio participants: 20 representatives of the coastal states and two representatives of the interstate commissions (the Atlantic States Marine Fisheries Commission and the Gulf States Marine Fisheries Commission).

NMFS will provide the necessary administrative support, including technical assistance, for the AP. However, NMFS will not compensate participants with monetary support of any kind. Depending on availability of funds, members may be reimbursed for travel costs related to the AP meetings.

C. Meeting Schedule

Meetings of the AP will be held as frequently as necessary but are routinely held once each year in the spring. The meetings may be held in conjunction with public hearings.

Authority: 16 U.S.C. 971 et seq. and 1801 et seq.

Dated: October 20, 2006.
Alan D. Risenhoover,
Director, Office of Sustainable Fisheries, National Marine Fisheries Service.

[FR Doc. E6-17948 Filed 10-25-06; 8:45 am]

BILLING CODE 3510-22-S